NUCLEAR REGULATORY COMMISSION

[Proj-0792; NRC-2013-0053]

Applications; SHINE Medical Technologies, Inc.

AGENCY: Nuclear Regulatory Commission.

ACTION: Notice; receipt and availability.

FOR FURTHER INFORMATION CONTACT: Steven Lynch, Project Manager, Office of Nuclear Reactor Regulation, U.S. Nuclear Regulatory Commission, Washington, DC 20555-0001; telephone: 301-415-1524; email: Steven.Lynch@nrc.gov.

SUPPLEMENTARY INFORMATION: On March 26, 2013 (SMT-2013-012, Agencywide Documents Access and Management System (ADAMS) Accession No. ML13088A192), SHINE Medical Technologies (SHINE) filed with the U.S. Nuclear Regulatory Commission (NRC) pursuant to Section 103 of the Atomic Energy Act, and Part 50 of Title 10 of the Code of Federal Regulations (10 CFR), a portion of an application for a construction permit application for a medical radioisotope production facility in Janesville, Wisconsin.

An exemption from certain requirements of 10 CFR 2.101(a)(5) granted by the Commission on March 20, 2013 (ADAMS Accession No. ML13072B195), in response to a letter from SHINE dated February 18, 2013 (ADAMS Accession No. ML13051A007), allowed for SHINE to submit its construction permit application in two parts. Specifically, the exemption allowed SHINE to submit a portion of its application for a construction permit up to six months prior to the remainder of the application regardless of whether or not an environmental impact statement or a supplement to an environmental impact statement is prepared during the review of its application. On March 26, 2013, in accordance with 10 CFR 2.101(a)(5), SHINE submitted the following in part one of the construction permit application:

• the description and safety assessment of the site required by 10 CFR 50.34(a)(1)

• the environmental report required by 10 CFR 50.30(f)

• the filing fee information required by 10 CFR 50.30(e) and 10 CFR 170.21

• the general information required by 10 CFR 50.33

• the agreement limiting access to classified information required by 10 CFR 50.37

As stated in SHINE's March 26, 2013, letter, part two of SHINE's application for a construction permit will contain the remainder of the preliminary safety analysis report required by 10 CFR 50.34(a) and will be submitted in accordance with the requirements of 10 CFR 2.101(a)(5).

Subsequent Federal Register notices will address the acceptability of this part of the tendered construction permit application for docketing and provisions for public participation in the construction permit application review process.

A copy of the application is available for public inspection at the NRC's Public Document Room (PDR), located at One White Flint North, 11555 Rockville Pike (first floor), Rockville, Maryland 20852. Publicly available documents created or received at the NRC are available online in the NRC Library at http://www.nrc.gov/reading-rm/adams.html. The accession number for the application is ML130880226. Future publicly available documents related to the application will also be posted in ADAMS. Persons who do not have access to ADAMS or who encounter problems in accessing the documents located in ADAMS should contact the NRC Public Document Room staff by telephone at 1-800-397-4209 or 301-415-4737, or by email to pdr@nrc.gov.

Dated at Rockville, Maryland, this 8th day of May, 2013.
For the Nuclear Regulatory Commission.
Alexander Adams, Jr.,
Chief, Research and Test Reactors Licensing Branch, Division of Policy and Rulemaking, Office of Nuclear Reactor Regulation.

[FR Doc. 2013-11933 Filed 5-17-13; 8:45 am]

BILLING CODE 7590-01-P